DEPARTMENT OF TRANSPORTATION

Federal Aviation Administration

14 CFR Part 39

[Docket No. FAA-2025-1363; Project Identifier MCAI-2025-00098-R; Amendment 39-23202; AD 2025-24-06]

RIN 2120-AA64

Airworthiness Directives; Airbus Helicopters

AGENCY: Federal Aviation Administration (FAA), DOT.

ACTION: Final rule.

SUMMARY: The FAA is adopting a new airworthiness directive (AD) for certain Airbus Helicopters Model AS 350B2, AS 350B3, AS355N, AS355NP, and EC 130 B4 helicopters. This AD was prompted by a report of a loss of cargo load during cargo swing operation on a helicopter due to an incorrect adjustment of the release cable of the cargo swing emergency release control. This AD requires a one-time inspection of the cargo swing emergency release control and, depending on the results, corrective actions. The FAA is issuing this AD to address the unsafe condition on these products.

DATES: This AD is effective January 12, 2026.

The Director of the Federal Register approved the incorporation by reference of a certain publication listed in this AD as of January 12, 2026.

ADDRESSES:

AD Docket: You may examine the AD docket at regulations.gov under Docket No. FAA-2025-1363; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-1363.

FOR FURTHER INFORMATION CONTACT: Steven Warwick, Aviation Safety Engineer, FAA, 1600 Stewart Avenue, Suite 410, Westbury, NY 11590; phone: (817) 222-5225; email: steven.r.warwick@faa.gov.

SUPPLEMENTARY INFORMATION:

Background

The FAA issued a notice of proposed rulemaking (NPRM) to amend 14 CFR part 39 by adding an AD that would apply to Airbus Helicopters Model AS 350B2, AS 350B3, AS355N, AS355NP, and EC 130 B4 helicopters equipped with ONBOARD systems 3500LB, having part number (P/N) 704A41811035. The NPRM was published in the Federal Register on July 22, 2025 (90 FR 34386). The NPRM was prompted by EASA AD 2025-0025, dated January 23, 2025 (EASA AD 2025-0025) (also referred to as the MCAI), issued by EASA, which is the Technical Agent for the Member States of the European Union. The MCAI states a report was received of a loss of cargo load during cargo swing operation on a helicopter. Subsequent investigation revealed an incorrect adjustment of the release cable of the cargo swing emergency release control.

In the NPRM, the FAA proposed to require a one-time inspection of the cargo swing emergency release control and, depending on the results, corrective actions.

The FAA is issuing this AD to address the adjustment of the cargo swing emergency release control. The unsafe condition, if not addressed, could result in inflight loss of cargo load and injury to persons on the ground.

You may examine the MCAI in the AD docket at regulations.gov under Docket No. FAA-2025-1363.

Comments

The FAA received a comment from one individual who disagreed with the practice of relying on manufacturer-issued and foreign regulatory documents that are not fully integrated into the rule text. The following presents the comments received on the NPRM and the FAA's response to the comment.

Request To Incorporate Requirements Directly Into the AD

The individual commenter requested that the FAA AD become a stand-alone document. The individual commented that relying on EASA's AD as the base document, and providing exceptions in the FAA's rule, makes the requirements confusing and could lead to possible errors.

The FAA disagrees with the request. In the FAA's ongoing efforts to improve the efficiency of the AD process, the FAA developed a process to use some civil aviation authority (CAA) ADs as the primary source of information for compliance with requirements for corresponding FAA ADs. This AD incorporates EASA AD 2025-0025 by reference. Incorporating information by reference is a common method of federal rulemaking, that is explicitly permitted under 1 CFR part 51. As stated in the Incorporation by Reference Handbook, June 2023 Edition, incorporation of relevant, usually technical information (such as the MCAI) promotes efficiency. The complete inspection method, measurable thresholds, and corrective actions are included in EASA AD 2025-0025 and the material referenced in EASA AD 2025-0025, which are available at regulations.gov under the Docket No. for this AD, FAA-2025-1363. The FAA has not changed this AD in this regard.

Conclusion

These products have been approved by the CAA of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2025-0025, which specifies procedures for a one-time inspection of the cargo swing emergency release control and, depending on the results, corrective actions. Corrective actions include adjustment of the cargo swing emergency release control or replacement of the dropping control. This material is reasonably available because the interested parties have access to it through their normal course of business or by the means identified in the ADDRESSES section.

Costs of Compliance

The FAA estimates that this AD affects 1,036 helicopters of U.S. registry. Based on these numbers, the FAA estimates the following costs to comply with this AD.

Estimated costs
Action | Labor cost | Parts cost | Cost per product | Cost on U.S. operators
Inspect cargo swing emergency release control | 1 work-hour × $85 per hour = $85 | $0 | $85 | $88,060

The FAA estimates the following costs to do any repairs or replacements that would be required based on the results of the inspection. The agency has no way of determining the number of helicopters that might need this repair.

On-condition costs
Action | Labor cost | Parts cost | Cost per product
Adjust cargo swing emergency release control | 2 work-hours × $85 per hour = $170 | $0 | $170
Replace dropping control | 1.5 work-hours × $85 per hour = $128 | 3,527 | 3,655

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-24-06 Airbus Helicopters: Amendment 39-23202; Docket No. FAA-2025-1363; Project Identifier MCAI-2025-00098-R.

(a) Effective Date

This airworthiness directive (AD) is effective January 12, 2026.

(b) Affected ADs

None.

(c) Applicability

This AD applies to Airbus Helicopters Model AS 350B2, AS 350B3, AS355N, AS355NP, and EC 130 B4 helicopters, certificated in any category, as identified in European Union Aviation Safety Agency AD 2025-0025, dated January 23, 2025 (EASA AD 2025-0025).

(d) Subject

Joint Aircraft System Component (JASC) Code 2500, Cabin Equipment/Furnishings.

(e) Unsafe Condition

This AD was prompted by a report of a loss of cargo load during cargo swing operation on a helicopter due to an incorrect adjustment of the release cable of the cargo swing emergency release control. The FAA is issuing this AD to address the adjustment of the cargo swing emergency release control. The unsafe condition, if not addressed, could result in inflight loss of cargo load and injury to persons on the ground.

(f) Compliance

Comply with this AD within the compliance times specified, unless already done.

(g) Requirements

Except as specified in paragraphs (h) and (i) of this AD: Comply with all required actions and compliance times specified in, and in accordance with, EASA AD 2025-0025.

(h) Exceptions to EASA AD 2025-0025

(1) Where EASA AD 2025-0025 refers to its effective date, this AD requires using the effective date of this AD.

(2) Where EASA AD 2025-0025 refers to “distance `B' ”, this AD requires replacing that text with “distance `B', the distance between the ball end and the manual release lever”.

(3) Where EASA AD 2025-0025 refers to “distance `C' ”, this AD requires replacing that text with “distance `C', the distance between the ball end and the dropping control”.

(4) This AD does not adopt the “Remarks” section of EASA AD 2025-0025.

(i) No Reporting Requirement

Although the material referenced in EASA AD 2025-0025 specifies to submit certain information to the manufacturer, this AD does not require that action.

(j) Special Flight Permits

Special flight permits may be issued in accordance with 14 CFR 21.197 and 21.199 to operate the helicopter to a location where the actions of this AD can be accomplished provided that no external load is carried in the cargo swing.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local flight standards district office/certificate holding district office.

(l) Additional Information

For more information about this AD, contact Steven Warwick, Aviation Safety Engineer, FAA, 1600 Stewart Avenue, Suite 410, Westbury, NY 11590; phone: (817) 222-5225; email: steven.r.warwick@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0025, dated January 23, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locationsoremailfr.inspection@nara.gov.

Issued on December 4, 2025.
Steven W. Thompson,
Acting Deputy Director, Compliance & Airworthiness Division, Aircraft Certification Service.

[FR Doc. 2025-22279 Filed 12-5-25; 8:45 am]

BILLING CODE 4910-13-P